DEPARTMENT OF VETERANS AFFAIRS

[OMB Control No. 2900-0696]

Agency Information Collection (Availability of Educational Licensing, and Certification Records) Activity Under OMB Review

AGENCY: Veterans Benefits Administration, Department of Veterans Affairs

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0696” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0696.”

SUPPLEMENTARY INFORMATION: Title: Availability of Educational Licensing, and Certification Records.

OMB Control Number: 2900-0696.

Type of Review: Revision of a currently approved collection.

Abstract: Educational institutions (including licensing and certification organizations) with approved courses or tests must make records available to government representatives. These records are used to insure that payment of benefits under the education programs VA administers have been made correctly.

An agency may not conduct or sponsor, and a person is not required to respond to a collection of information unless it displays a currently valid OMB control number.

The Federal Register Notice with a 60-day comment period soliciting comments on this collection of information was published at Vol. 81, No. 141, Friday, July 22, 2016,

Affected Public: Educational institutions.

Estimated Annual Burden: 11,400 hours.

Estimated Average Burden per Respondent: 2 hours.

Frequency of Response: Annually.

Estimated Number of Respondents: 5,700 respondents.

By direction of the Secretary.
Cynthia Harvey-Pryor,
Program Specialist, Office of Privacy and Records Management, Department of Veterans Affairs.

[FR Doc. 2016-24162 Filed 10-5-16; 8:45 am]

BILLING CODE 8320-01-P